DEPARTMENT OF VETERANS AFFAIRS

Veterans' Family, Caregiver, and Survivor Advisory Committee, Notice of Meeting

The Department of Veterans Affairs (VA) gives notice under the Federal Advisory Committee Act (FACA), 5 U.S.C. App. 2, that the Veterans' Family, Caregiver, and Survivor Advisory Committee will meet virtually via Webex on March 30, 2021. The meeting session will begin and end as follows:

Date: | Time:
March 30, 2021 | 1:00 p.m. to 4:00 p.m. EST.

The meeting is open to the public. Registration is required at https://veteransaffairs.webex.com/veteransaffairs/onstage/g.php?MTID=eac2c7ae95c9a6ca78f36d73e42850fe1. Once registered, there is no password for this event. Each registrant will be sent a link for their attendance to this virtual meeting. Only the registrant of record may use the meeting link.

The purpose of the Committee is to advise the Secretary of Veterans Affairs on matters related to: The need of Veterans' families, caregivers, and survivors across all generations, relationships, and Veterans status; the use of VA care, benefits and memorial services by Veterans' families, caregivers, and survivors, and opportunities for improvements to the experience using such services; VA policies, regulations, and administrative requirements related to the transition of Servicemembers from the Department of Defense (DoD) to enrollment in VA that impact Veterans' families, caregivers, and survivors; and factors that influence access to, quality of, and accountability for services, benefits and memorial services for Veterans' families, caregivers, and survivors.

On March 30, 2021, the agenda will include opening remarks from the Committee Chair and the Chief Veterans Experience Officer. There will be presentations from VA program offices on the responses to the Committee's Recommendations, COVID Vaccination Plans, MISSION Act Expansion and Legacy Participants and a discussion on Caregiver and Survivor Transitions Over Time.

Individuals wishing to share information with the Committee should contact the VEO Federal Advisory Committee Team at VEOFACA@va.gov to submit a 1-2 page summary of their comments for inclusion in the official meeting record before March 29, 2021 at 5:00pm (EST). Due to the time limitations of virtual meetings, public comments will be submitted prior to the meeting and distributed to the Committee before the designated meeting time on March 30, 2021.

Any member of the public seeking additional information should contact Betty Moseley Brown (Designated Federal Official) at Betty.MoseleyBrown@va.gov or 210-392-2505.

Dated: March 2, 2021.
Jelessa M. Burney,
Federal Advisory Committee Management Officer.

[FR Doc. 2021-04617 Filed 3-4-21; 8:45 am]

BILLING CODE P